DEPARTMENT OF JUSTICE

Antitrust Division

Notice Pursuant to the National Cooperative Research and Production Act of 1993—Rapid Response Partnership Vehicle

Notice is hereby given that, on January 5, 2024, pursuant to section 6(a) of the National Cooperative Research and Production Act of 1993, 15 U.S.C. 4301 et seq. (“the Act”), Rapid Response Partnership Vehicle (“RRPV”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture as of the date of this filing are: AATec Medical GmbH, München, GERMANY; ASELL LLC, Owings Mills, MD; Access to Advanced Health Institute, Seattle, WA; Adaptive Phage Therapeutics, Inc., Gaithersburg, MD; Advanced BioScience Laboratories, Inc., Rockville, MD; Aerium Therapeutics, Inc., Boston, MA; Alamgir Research, Inc. dba ARIScience, Wayland, MA; Alchem Laboratories Corp., Alachua, FL; Alentic Microscience, Inc., Halifax, Nova Scotia, CANADA; Altec, Inc., Natick, MA; Antiviral Technologies LLC, Dallas, TX; ApiJect Systems America, Inc., Stamford, CT; Applied Materials, Inc., Santa Clara, CA; Apriori Bio, Inc., Cambridge, MA; Aridis Pharmaceuticals, Inc., Los Gatos, CA; AstraZeneca Pharmaceuticals LP, Wilmington, DE; Atea Pharmaceuticals, Inc., Boston, MA; Attogene, Austin, TX; BCG Federal Corp., Washington, DC; BioFire Defense LLC, Salt Lake City, UT; BioTechnique LLC, York, PA; BiotechPharma Corp., Severna Park, MD; Bioxytran, Dedham, MA; Boston Engineering Corp., Waltham, MA; BrainScope Company, Inc., Chevy Chase, MD; Brimrose Technology Corporation, Sparks, MD; BugSeq, Inc., San Francisco, CA; CAMRIS International, Bethesda, MD; CASTLEVAX, Inc., New York, NY; CUBRC, Inc., Buffalo, NY; Care Access Research LLC, Boston, MA; Cayuga Biotech, New York, NY; Cepheid, Sunnyvale, CA; ChromoLogic, Monrovia, CA; Civica, Inc., Lehi, UT; Clarivate Analytics (US) LLC, Ann Arbor, MI; CliniOps, Inc., Fremont, CA; Cocrystal Pharma, Inc., Miami, FL; Codagenix, Inc., Farmingdale, NY; Concord Medical Technology Corp., Grand Forks, ND; Critical Innovations LLC, Lawndale, CA; Curia Global, Inc., Albany, NY; CyanVac LLC, Athens, GA; Delta Development Team, Inc., Tucson, AZ; Detect, Inc., Guilford, CT; Duke University, Durham, NC; Dyadic International, Inc., Jupiter, FL; Dynavax Technologies Corp., Emeryville, CA; Eagle Health Analytics LLC, San Antonio, TX; Endpoint Health, Palo Alto, CA; Esparza Pest Control and Eco-Logic Systems, Inc., Edinburg, TX; EverGlade Consulting LLC, Charleston, SC; Everest Consulting Group, Bethesda, MD; ExeVir Bio, Zwijnaarde, BELGIUM; FHI Clinical, Durham, NC; First Line Technology LLC, Fredericksburg, VA; Foamtec International Co., Ltd., Waco, TX; Foothill Scientific Associates, CA; GRIP Molecular Technologies, Inc., St. Paul, MN; GenVault, West Deptford, NJ; Generate Biomedicines, Inc., Somerville, MA; GeoVax, Inc., Smyrna, GA; Ginkgo Bioworks, Inc., Boston, MA; Global Resonance Technologies LLC, Shelburne, VT; Gritstone bio, Inc., Emeryville, CA; Healthtrek LLC, Tampa, FL; Hexagon Bio, Inc., Menlo Park, CA; ICON Government and Public Health Solutions, Inc., Blue Bell, PA; Immune Biosolutions, Sherbrooke, CANADA; ImmunityBio, Inc., Culver City, MN; Immuron, Ltd., Blackburn North, AUSTRALIA; Inflammatix, Inc., Sunnyvale, CA; Integrated Pharma Services, Frederick, MD; Invivyd, Inc., Waltham, MA; Irving Burton Associates LLC, Silver Spring, MD; Island Pharmaceuticals, Ltd., Camberwell, AUSTRALIA; Iuventis Technologies, Inc., Olean, NY; JEEVA INFORMATICS SOLUTIONS, Inc., Manassas, VA; Jubilant HollisterStier, Spokane, WA; Jurata Thin Film, Inc., Houston, TX; K2 Biolabs, Inc., Houston, TX; LaCire LLC, Alexandria, VA; Latham BioPharm Group LLC, Elkridge, MD; Leidos, Reston, VA; Lex Diagnostics, Ltd., Melbourn, UNITED KINGDOM; Locus Biosciences, Morrisville, NC; Longhorn Vaccines and Diagnostics LLC, Bethesda, MD; Luna Labs USA LLC, Charlottesville, VA; Lungpacer Medical USA, Inc., Exton, PA; MMV Medicines for Malaria Venture, Geneva, SWITZERLAND; MRIGlobal, Gaithersburg, MD; Mapp Biopharmaceutical, Inc., San Diego, CA; Maravai Lifesciences, San Diego, CA; Maxwell Biosciences, Inc., Austin, TX; MeMed, Tirat Carmel, ISRAEL; Medigen, Inc, Frederick, MD; Meletios Therapeutics, Paris, FRANCE; Micron Biomedical, Inc., Atlanta, GA; Military Health Research Foundation, Inc., Laurel, MD; Mission Pharmacal Company, San Antonio, TX; Model Medicines, Inc., La Jolla, CA; ModernaTx, Cambridge, MA; Molecular Technologies Laboratories LLC dba InfinixBio, Galena, OH; NextBeam LLC, North Sioux City, SD; Ocugen, Inc., Malvern, PA; Ocyonbio LLC, Aguadilla, PUERTO RICO; OneBreath, Inc., Palo Alto, CA; Otter Cove Solutions LLC, Gaithersburg, MD; PPD Development LP, Wilmington, NC; Pacto Medical, Inc., Middletown, DE; Parallel Biosciences, Inc., Cambridge, MA; Peptilogics, Inc., Pittsburgh, PA; Pfizer, Inc., New York, NY; Phare Bio, Boston, MA; Pharm-Olam LLC dba Allucent, Cary, NC; PharmaJet, Inc., Golden, CO; Phlow Corp., Richmond, VA; PopVax Private Limited, Mumbai City, INDIA; QUZE Pharmaceuticals, Inc., Windsor, CO; Rajant Health, Inc., Malvern, PA; Regis Technologies, Inc., Morton Grove, IL; Research Lifecycle Solutions LLC, Franklin, TN; Resilience Government Services, Inc., Alachua, FL; Riya Interactive Inc., Hawthorn Woods, IL; Ronawk, Inc., Overland Park, KS; Rubix Strategies LLC dba Rubix LS, Lawrence, MA; SEQENS, Devens, MA; SRI International, Menlo Park, CA; Safi Biotherapeutics, Inc., Cambridge, MA; Sanofi Pasteur, Inc., Swiftwater, PA; Schrodinger LLC, Portland, OR; Shabas Solutions LLC, Fairfax, VA; Sibel Health, Inc., Chicago, IL; Signature Science LLC, Austin, TX; Swaza Inc., Mountain View, CA; Synedgen, Inc., Claremont, CA; TFF Pharmaceuticals, Inc., Fort Worth, TX; Texas Biomedical Research Institute, San Antonio, TX; The Conafay Group, Washington, DC; The Geneva Foundation, Tacoma, WA; The Henry M. Jackson Foundation for the Advancement of Military Medicine, Bethesda, MD; The Medical Countermeasures Coalition, Washington, DC; The Tiny Cargo Company, Roanoke, VA; ThirdLaw Molecular LLC, Blue Bell, PA; TrippBio, Inc., Jacksonville, FL; Uh-Oh Labs Inc. dba Scout, Santa Clara, CA; Univox Technical Solutions DBA Univox LLC, Tijeras, NM; Valneva Austria GmbH, Vienna, AUSTRIA; Vanderbilt Vaccine Center, Nashville, TN; Varda Space Industries, Inc., El Segundo, CA; Vaxart, Inc., South San Francisco, CA; Vaxess Technologies, Inc., Cambridge, MA; Vaxxas, Inc., Cambridge, MA; Vibrent Health, Fairfax, VA; Vir Biotechnologies, San Francisco, CA; Viti Pharmaceuticals, Miami, FL; Wizbiosolutions, Inc., Vienna, VA.

Consistent with 15 U.S.C. 4301(a)(6)(C), (E) and (F), the general area of RRPV's planned activities are to accelerate Medical Countermeasure (MCM) technology development to address evolving needs including pandemic influenza, emerging infectious diseases, and other biological threats. It will accelerate partnering, improve responsiveness, and meet expanding demand to develop future MCM needs. It will advance health security, enhance preparedness, and enable a rapid response to future pandemic or high consequence biological threats.

Suzanne Morris,
Deputy Director Civil Enforcement Operations, Antitrust Division.

[FR Doc. 2024-07941 Filed 4-15-24; 8:45 am]

BILLING CODE P